DEPARTMENT OF HEALTH AND HUMAN SERVICES

National Institutes of Health

Notice of Intent To Prepare an Environmental Impact Statement

Summary: In accordance with the National Environmental Policy Act, the National Institutes of Health (NIH), an agency of the Department of Health and Human Services (HHS), is issuing this notice to advise the public that an environmental impact statement will be prepared for the NIH Animal Center at Poolesville Master Plan, Poolesville, Montgomery County, Maryland.

For Further Information Contact: Valerie Nottingham, Chief, Environmental Quality Branch, Division of Environmental Protection, Office of Research Facilities, NIH, B13/2S11, 9000 Rockville Pike, Bethesda, Maryland 20892, telephone 301-496-7775; fax 301-480-8056; or e-mail nihnepa@mail.nih.gov.

Supplementary Information: The NIH Animal Center is located on 513 acres 4 miles southwest of the City of Poolesville, a small agricultural community located in western Maryland. The campus is a component of the National Institutes of Health (NIH), one of the world's largest biomedical research facilities and the Federal government's focal point for medical and behavioral research. The NIH Animal Center at Poolesville is a major extension of animal holding and production facilities at Bethesda and consists of a number of buildings used to house, quarantine, and study the behavior and immunological conduct of a variety of animal models. The NIH Animal Center at Poolesville conducts and supports research protocols for various Institutes and Centers, which includes the studies of animal behavior, conduct of immunologic procedures and sampling, and surgical investigation. Total building space on the campus amounts to approximately 364,507 gsf. Approximately 199 people work at the NIH Animal Center site.

A Master Plan is an integrated series of documents that present in graphic, narrative, and tabular form the current composition of NIH campuses and the plan for their orderly and comprehensive development over a 20-year period. The plan provides guidance in coordinating the physical development of NIH campuses, including building locations, utility capacities, road alignments, parking facilities, and the treatment of open spaces. General design guidelines are also used to provide detailed guidance for the placement and design of physical improvements.

The proposed action is to develop a long-range physical master plan for the NIH Animal Center. The plan will cover a 20-year planning period and address the future development of the NIH Animal Center site, including placement of future construction; vehicular and pedestrian circulation on- and off-campus; parking within the property boundaries; open space in and around the campus; required setbacks; historic properties; natural and scenic resources; noise; and lighting. The plan will examine potential growth in the NIH Animal Center personnel, and consequent construction of space over the planning period. Future construction on the site could include such facilities as: new animal holding, research laboratories, and support facilities.

In accordance with 40 CFR 1500-1508 and DHHS environmental procedures, NIH will prepare an Environmental Impact Statement (EIS) for the proposed master plan. The EIS will evaluate the impacts of the master plan should development occur as proposed. Among the items the EIS will examine are the implications of the master plan on community infrastructure, including, but not limited to, utilities, storm water management, traffic and transportation, and other public services.

To ensure that the public is afforded the greatest opportunity to participate in the planning and environmental review process, the NIH is inviting oral and written comments on the master plan and related environmental issues.

The NIH will be sponsoring a public Scoping Meeting to provide individuals an opportunity to share their ideas on the master planning effort, including recommended alternatives and environmental issues the EIS should consider. The meeting is planned for 6:30 p.m. to 9 p.m. on October 25, 2011 at the Town Hall Building at 19721 Beall Street, Poolesville, Maryland 20837. All interested parties are encouraged to attend. The NIH has established a 30-day public comment period for the scoping process. Scoping comments must be postmarked no later than November 18, 2011 to ensure they are considered. All comments and questions on the EIS should be directed to Valerie Nottingham at the address listed above, telephone 301-496-7775; fax 301-480-8056; or e-mail nihnepa@mail.nih.gov.

Dated: September 23, 2011.
Daniel G. Wheeland,
Director, Office of Research Facilities Development and Operations, National Institutes of Health.

[FR Doc. 2011-25385 Filed 9-30-11; 8:45 am]

BILLING CODE 4140-01-P